FEDERAL COMMUNICATIONS COMMISSION

47 CFR Part 36

[WC Docket Nos. 10-90, 23-328, 14-58, 09-197; WT Docket No. 10-208; FCC 23-87; FR ID 269499]

Connect America Fund, Alaska Connect Fund, ETC Annual Reports and Certifications, Telecommunications Carriers Eligible To Receive Universal Service Support, Universal Service Reform—Mobility Fund; Correction

AGENCY: Federal Communications Commission.

ACTION: Correcting amendment.

SUMMARY: This document corrects an error in the regulatory text of a Federal Register document that amended existing rules and requirements governing the management and administration of the Federal Communications Commission's (Commission) Universal Service Fund high-cost program. The summary was published in the Federal Register on April 10, 2024, and this document corrects the final regulations in that document.

DATES: Effective December 27, 2024.

FOR FURTHER INFORMATION CONTACT: Jesse Jachman, Wireline Competition Bureau, (202) 418-7400.

SUPPLEMENTARY INFORMATION: This summary contains a correction to the regulatory text of a Federal Register document, 89 FR 25147, April 10, 2024. See also the announcement of effective date published at 89 FR 92846, November 25, 2024.

List of Subjects in 47 CFR Part 36

Communications common carriers, Reporting and recordkeeping requirements, Telecommunications, Telephone, Uniform System of Accounts.

Accordingly, 47 CFR part 36 is corrected by making the following correcting amendment:

PART 36—JURISDICTIONAL SEPARATIONS PROCEDURES; STANDARD PROCEDURES FOR SEPARATING TELECOMMUNICATIONS PROPERTY COSTS, REVENUES, EXPENSES, TAXES AND RESERVES FOR TELECOMMUNICATIONS COMPANIES

1. The authority citation for part 36 continues to read as follows:

Authority: 47 U.S.C. 151, 152, 154(i) and (j), 201, 205, 220, 221(c), 254, 303(r), 403, 410, and 1302 unless otherwise noted.

2. In § 36.4 revise paragraph (c) to read as follows:

§ 36.4 Streamlining procedures for processing petitions for waiver of study area boundaries.

* * * * *

(c) Petitions for waiver required. Local exchange carriers seeking a change in study area boundaries must file a study area petition consistent with the procedures set out in paragraphs (a) and (b) of this section notwithstanding any prior exemption from such waiver requests including, but not limited to, when a company is combining previously unserved territory with one of its study areas or a holding company is consolidating existing study areas within the same state. The Wireline Competition Bureau or the Office of Economics and Analytics are permitted to accept study area boundary corrections without a waiver.

Federal Communications Commission.
Marlene Dortch,
Secretary.

[FR Doc. 2024-30967 Filed 12-26-24; 8:45 am]

BILLING CODE 6712-01-P